DEPARTMENT OF EDUCATION

[CFDA Nos.: 84.184H, 84.184K]

Office of Elementary and Secondary Education—Safe and Drug-Free Schools and Communities National Programs—Combined Notice Inviting Applications for New Awards for Fiscal Year 2001

SUMMARY: The Secretary invites applications for new awards for fiscal year (FY) 2001 under two direct grant competitions supported by Safe and Drug-Free Schools and Communities Act (SDFSCA) National Programs: Grant Competition to Prevent High-Risk Drinking and Violent Behavior Among College Students (84.184H) and Middle School Drug Prevention and School Safety Program Coordinators Grant Competition (84.184K).

Purpose of Programs: The purpose of the Grant Competition to Prevent High-Risk Drinking and Violent Behavior Among College Students is to provide funds that support the development or enhancement, implementation, and evaluation of campus- and/or community-based prevention strategies to reduce high-risk drinking and/or violent behavior among college students. The purpose of the Middle School Drug Prevention and School Safety Program Coordinators Grant Competition is to provide funds that support recruiting, hiring, and training of one or more full-time staff to oversee the implementation of drug prevention and school safety programs for middle school students.

Applications Available: December 27, 2000.

Applicable Regulations: (a) The Education Department General Administrative Regulations (EDGAR) in 34 CFR parts 74, 75, 77, 79, 80, 81, 82, 85, 86 (note: The regulations in 34 CFR part 86 apply to institutions of higher education only), 97, 98, and 99; and (b) the applicable notice of final priority and selection criteria for 84.184H as published elsewhere in this issue of the Federal Register and for 84.184K as published on April 6, 2000, at 65 FR 18200-18201], apply to these competitions. The applicable final priority and selection criteria will be available in the respective application package for each grant competition.

FOR APPLICATIONS AND FURTHER INFORMATION CONTACT: Safe and Drug-Free Schools Program, 400 Maryland Avenue, SW, 3E316, Washington, DC 20202-6123. Telephone: 202/260-3954. Fax: 202/260-7767. Internet: http://www.ed.gov/offices/OESE/SDFS.

If you use a telecommunications device for the deaf (TDD), you may call the Federal Information Relay Service (FIRS) at 800/877-8339. Individuals with disabilities may obtain a copy of this document, or an application package, in an alternative format (e.g., Braille, large print, audiotape, or computer diskette) on request to the program contact listed under FOR APPLICATIONS AND FURTHER INFORMATION CONTACT. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use PDF, you must have the Adobe Acrobat Reader, which is available free at either of the previous sites. If you have questions about using PDF, call the U.S. Government Printing Office (GPO) toll free at 888/293-6498; or in the Washington, DC area at 202/512-1530.

Note: The official version of this document is the document published in the Federal Register. Free Internet access to the official edition of the Federal Register and the Code of Federal Regulations is available on GPO Access at: http://www.access.gpo.gov/nara/index.html

Program Authority: 20 U.S.C. 7131.
Dated: December 21, 2000.
Michael Cohen,
Assistant Secretary for Elementary and Secondary Education.

CFDA number and name | Estimated range of awards | Estimated average size of awards | Estimated number of awards | Estimated available funds | Project period | Deadline for transmittal of applications | Deadline for intergov-ernmental review | Eligible applicants
84.184H Grant Competition to Prevent High-Risk Drinking and Violent Behavior Among College Students | $100,000 to $140,000 | $120,000 | 16 | $2,000,000 | Up to 24 months | 2/16/01 | 4/16/01 | Institutions of higher education, consortia thereof, other public and private nonprofit organizations, or individuals.
84.184K Middle School Drug Prevention and School Safety Program Coordinators Grant Competition | $145,000 to $275,000 | 210,000 | 125 | 26,000,000 | Up to 36 months | 2/23/01 | 4/24/01 | Local educational agencies.
Note: Range of awards, average size of awards, number of awards, and available funding in this notice are estimates only. The Department is not bound by any estimates in this notice. Estimated available funds are for the first year of the project period only. Funding for the second (84.184H and 84.184K) and third years (84.184K only) of projects is subject both to the availability of future years' funds and the approval of continuation (see 34 CFR 75.253).

[FR Doc. 00-33006 Filed 12-26-00; 8:45 am]

BILLING CODE 4000-01-U